DEPARTMENT OF JUSTICE

Notice of Lodging of Proposed Consent Decree Under the Resource Conservation and Recovery Act

On January 20, 2021, the Department of Justice lodged a proposed consent decree with the United States District Court for the District of Utah in the lawsuit entitled United States of America v. Magnesium Corporation of America, et al., Civil Action No. 2:01CV0040-DBB.

If approved by the court, the consent decree would resolve the claims of the United States against US Magnesium LLC (“USM”), the Renco Group, Inc. (“Group”), the Ira Leon Rennert Revocable Trusts (“Trusts”), and Mr. Ira Leon Rennert (“Rennert”), collectively “Defendants,” for injunctive relief and civil penalties for alleged violations of the Resource Conservation and Recovery Act (“RCRA”) at USM's magnesium production facility in Rowley, Utah. The consent decree would require USM to: (1) Make extensive process modifications at the facility, including construction of a filtration plant to treat all wastewaters, that will reduce the environmental impacts from its production operations and ensure greater protection for its workers; (2) establish appropriate financial assurance for closure or corrective action of certain waste management areas in the operating areas of the facility; (3) pay a civil penalty of $250,000; and (4) perform the CERCLA Response Action, which includes construction of a barrier wall around 1,700 acres of the operating portions of the facility to prevent leaks or breaches of hazardous materials to the Great Salt Lake, and the payment of EPA costs incurred in connection with the CERCLA Response Action.

In return for the Settling Defendants' compliance with these requirements, the consent decree would resolve past RCRA violations at the Rowley facility that the United States' complaint alleges. Provided that the Settling Defendants remain in compliance with the consent decree's requirements, including payment of EPA CERCLA Response Action costs, the United States would covenant not to sue the Settling Defendants under CERCLA for the CERCLA Response Action and EPA's CERCLA Response Action costs.

On February 3, 2021, the Department of Justice published notice of the lodging of the proposed consent decree. 86 FR 8037. The notice started a 30-day period for the submission of comments on the proposed consent decree. The Department of Justice has received a request for an extension of the comment period, which expires on March 5, 2021. In consideration of the request, notice is hereby given that the Department of Justice has extended the comment period on the proposed consent decree by an additional 14 days, up to and including March 19, 2021. Comments should be addressed to the Assistant Attorney General, Environment and Natural Resources Division, and should refer to United States of America v. Magnesium Corporation of America, et al., Civil Action No. 2:01CV0040-DBB; D.J. Ref. No. 90-7-1-06980. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $101.00 (25 cents per page reproduction cost) payable to the United States Treasury. For a paper copy without the Appendices and signature pages, the cost is $20.00.

Jeffrey Sands,
Assistant Section Chief, Environmental Enforcement Section, Environment and Natural Resources Division.

[FR Doc. 2021-04438 Filed 3-3-21; 8:45 am]

BILLING CODE 4410-15-P